DEPARTMENT OF HEALTH AND HUMAN SERVICES

Administration for Children and Families

Submission for OMB Review; Coparenting and Healthy Relationship and Marriage Education for Dads (New Collection)

AGENCY: Office of Planning, Research, and Evaluation; Administration for Children and Families; HHS.

ACTION: Request for public comment.

SUMMARY: The Administration for Children and Families (ACF), Office of Planning, Research, and Evaluation (OPRE) proposes to collect information as part of the Coparenting and Healthy Relationship and Marriage Education for Dads (CHaRMED) study. The purpose of the CHaRMED study is to better understand the services that fatherhood programs provide in the areas of Healthy Marriage and Relationship Education (HMRE) and coparenting to learn what strategies hold promise for promoting active engagement in these services.

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent directly to the following: Office of Management and Budget, Paperwork Reduction Project, Email: OIRA_SUBMISSION@OMB.EOP.GOV, Attn: Desk Officer for the Administration for Children and Families.

Copies of the proposed collection may be obtained by writing to the Administration for Children and Families, Office of Planning, Research and Evaluation, 330 C Street SW, Washington, DC 20201, Attn: OPRE Reports Clearance Officer. All requests should be identified by the title of the information collection. Email address: OPREinfocollection@acf.hhs.gov.

SUPPLEMENTARY INFORMATION:

Description: The proposed information collection will examine how fatherhood programs include HMRE and coparenting content, the types of activities programs use to promote fathers' healthy romantic relationships and coparenting relationships, barriers to addressing healthy romantic relationships and coparenting in fatherhood programs, the relevance and success of addressing healthy romantic relationships and coparenting with fathers alone versus with couples or both parents, fathers' and coparents' reactions to this programming, curriculum developers' perspectives on the curricula used, and what types of partnerships fatherhood programs have with other agencies to promote fathers' healthy romantic relationships and coparenting. This information will be collected through semi-structured interviews with fatherhood program staff, community partners, fathers who are no longer participating in the programs, and curriculum developers; and through focus groups with current program participants (fathers) and coparents. This information will inform future efforts to promote healthy romantic relationships and coparenting through fatherhood programming.

Respondents: Federal and non-federal fatherhood program staff (e.g., program directors and facilitators), community partners, fathers, coparents, and curriculum developers.

Annual Burden Estimates
Instrument | Total/annual number of respondents | Number of responses per respondent | Average burden hours per response | Annual burden hours
Screener for selecting fatherhood programs for visits | 28 | 1 | 6 | 168
Semi-structured interviews with program staff | 48 | 1 | 2 | 96
Semi-structured interviews with partner organization staff | 14 | 1 | 2 | 28
Semi-structured interviews with non-participating fathers | 20 | 1 | 1.5 | 30
Focus groups with participating fathers | 104 | 1 | 2 | 208
Focus groups with coparents | 48 | 1 | 2 | 96
Discussions with curriculum developers | 7 | 1 | 1 | 7
Demographic questionnaire -fathers | 124 | 1 | .25 | 31
Demographic questionnaire—coparents | 48 | 1 | .25 | 12

Estimated Total Annual Burden Hours: 676

Authority: Title IV, Part A, Section 403(a)(2) of the Social Security Act [42 U.S.C. 603(a)(2)].

Mary B. Jones,
ACF/OPRE Certifying Officer.

[FR Doc. 2019-28108 Filed 12-27-19; 8:45 am]

BILLING CODE 4184-01-P